DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than January 29, 2009.

Interested persons are invited to submit written comments regarding the subject matter of the investigations to the Director, Division of Trade Adjustment Assistance, at the address shown below, not later than January 9, 2009.

The petitions filed in this case are available for inspection at the Office of the Director, Division of Trade Adjustment Assistance, Employment and Training Administration, U.S. Department of Labor, Room N-5428, 200 Constitution Avenue, NW., Washington, DC 20210.

Signed at Washington, DC, this 19th day of December 2008.
Linda G. Poole,
Certifying Officer, Division of Trade Adjustment Assistance.

TAA Institutions
[Petitions Instituted Between 12/8/08 and 12/12/08]
[Contact: Regina Chapman (202) 693-3547]
TA-W Number | Subject firm (petitioners) | Location | Contact person | Telephone | Date of institution
64595 | True Textiles, Inc./Interface Fabrics (Wkrs) | Elkin, NC | Beth Steelman | 336-526-0349 | 12/08/08
64596 | Atwood Mobile Products, LLC (Comp) | West Union, IA | Robert Hejlik | 563-422-5641 | 12/08/08
64597 | R. L. Stowe Mills, Inc. (Comp) | Lupton City, TN | Barry Pomeroy | 704-825-5314 | 12/08/08
64598 | True Textiles, Inc./Interface Fabrics (Wkrs) | Elkin, NC | Beth Steelman | 336-526-0649 | 12/08/08
64599 | JM Originals (Comp) | Ellenville, NY | Myrna Jargowsky | 845-647-3003 | 12/08/08
64600 | Janna Ugone and Associates, Inc. (Comp) | Easthampton, MA | Janna Ugone | 413-527-5530 | 12/08/08
64601 | Bosch Communications Systems (State) | Glencoe, MN | Judy Graupmann | 320-864-8703 | 12/08/08
64602 | Archer Trim, Inc. (Comp) | Lumberton, NC | Ronald Hamm | 910-739-2436 | 12/08/08
64603 | Cassens Transport (UAW) | Fenton, MO | Steve Gross | 636-343-2161 | 12/08/08
64604 | DHL Express (Wkrs) | Bloomington, IN | Tamiko Atkins | 234-858-3127 | 12/08/08
64605 | RS Medical (Wkrs) | Vancouver, WA | Rick Terrell | 360-892-0339 | 12/08/08
64606 | Columbian Chemicals Company (Marshall Plant) (ICWU) | Proctor, WV | Terence Norman | 770-792-9447 | 12/08/08
64607 | Cintas Corporation (Comp) | Hazard, KY | Matt Wallace | 800-914-1960 | 12/08/08
64608 | Eljer Inc. (Comp) | Ford City, PA | Leroy Harnish | 724-763-6211 | 12/08/08
64609 | Local Insight Yellow Pages (Wkrs) | Erie, PA | Mike Mansbridge | 937-296-4878 | 12/08/08
64610 | Synthetics Finishing (Wkrs) | Hickory, NC | Dan Felmer | 828-328-5523 | 12/08/08
64611 | Optima Batteries (Wkrs) | Aurora, CO | Janice McDougal | 303-340-7408 | 12/08/08
64612 | Copland Industries (Comp) | Burlington, NC | Jason Copland | 336-226-0272 | 12/08/08
64613 | Mt. Pleasant Hosiery Mills, Inc. (Comp) | Mt. Pleasant, NC | Robert Hayes | 704-795-2000 | 12/08/08
64614 | Hickory Springs Manufacturing Company (Comp) | Hickory, NC | Hunter Lee | 828-328-2201 | 12/08/08
64615 | Lydall Thermal/Acoustical, Inc. (Comp) | St. Johnsbury, VT | Mona Estey | 860-327-0300 | 12/08/08
64616 | Steelscape (Comp) | Kalama, WA | Tom Harper | 360-673-8281 | 12/08/08
64617 | International Textile Group, Inc. (Comp) | Greensboro, NC | Bob Garren | 336-379-2683 | 12/08/08
64618 | Mid America Stainless, LLC (Wkrs) | East St. Louis, IL | Jim Nations | 618-271-3700 | 12/08/08
64619 | Chrysler Twinsburg Stamping Plant (UAW) | Twinsburg, OH | Robin Briscoe | 330-487-2593 | 12/08/08
64620 | Rockwell Automation (Comp) | Manchester, NH | George Murray | 603-656-6455 | 12/08/08
64621 | IAC Carlisle, LLC (IUECWA) | Carlisle, PA | Scott Amig | 717-258-7166 | 12/08/08
64622 | Napco, Inc. (Comp) | Valencia, PA | Joseph Ferrese | 724-898-1511 | 12/08/08
64623 | Skilled Manufacturing, Inc. (Comp) | Traverse City, MI | Jerry Carlson | 231-941-0290 | 12/08/08
64624 | Shaw Industries Group, Inc. (Comp) | Anderson, SC | Mark Richard | 864-260-7800 | 12/09/08
64625 | Black-Frymyer Co., Inc. (Rep) | Cambridge, OH | Debbie Black | 740-630-4199 | 12/09/08
64626 | Moldex (Wkrs) | Meadville, PA | Brian Shorey | 814-337-3190 | 12/09/08
64627 | Old Hickory Tannery (Wkrs) | Newton, NC | Sheri Huffman | 828-465-6599 | 12/09/08
64628 | TRW/Kelsey Hayes (State) | Livonia, MI | Jonetta Pettway | 248-699-4158 | 12/09/08
64629 | International Converter, LLC (USW) | Belpre, OH | John Rice | 740-423-7525 | 12/09/08
64630 | Dexter Axle (Wkrs) | North Manchester, IN | Tom Roth | 260-982-4047 | 12/09/08
64631 | Detroit Axle (UAW) | Detroit, MI | Brian Dilley | 313-252-2609 | 12/09/08
64632 | Fleet Wood Motor Homes (Wkrs) | Paxinos, PA | Randy Hearhart | 570-644-0817 | 12/09/08
64633 | Hewlett-Packard, Imaging & Printing Group (Comp) | Vancouver, WA | Erik Troelsen | 360-212-2170 | 12/09/08
64634 | Vaughan-Bassett Furniture Co., Inc. (Comp) | Elkin, NC | Doug Bassett | 276-23-2226 | 12/10/08
64635 | Simpson Door Co. (UBCJA) | McCleary, WA | Ted Jones | 360-495-3291 | 12/10/08
64636 | Future Electronics Corp. (State) | Golden, CO | Lisa Vigderhous | 514-694-7710 | 12/10/08
64637 | Kraco Enterprises, LLC (UE) | Compton, CA | Randy Beck | 310-639-0946 | 12/10/08
64638 | Textileather Corporation (Wkrs) | Toledo, OH | Richard Hayward | 419-729-7542 | 12/10/08
64639 | Acument Global Technologies (Comp) | Wytheville, VA | Charles Cresap, Jr. | 276-228-8141 | 12/10/08
64640 | Plainfield Stamping—Illinois, Inc. (Union) | Plainfield, IL | Linda Atkinson | 815-436-5671 | 12/10/08
64641 | Atlas Tube Incorporated (State) | Blytheville, AR | Linda Thomson | 519-738-5533 | 12/10/08
64642 | Johnstown Wire Technologies (Comp) | Johnstown, PA | Terry Buxbaum | 814-532-5614 | 12/10/08
64643 | Chrysler Headquarters and Technology Center (UAW) | Auburn Hills, MI | Joann Hatfield | 248-512-2299 | 12/10/08
64644 | USW Local 87 L (USW) | Dayton, OH | Dennis Bingham | 937-268-6646 | 12/11/08
64645 | Columbian Chemicals Company (ICWU) | Proctor, WV | Terence Norman | 770-972-9447 | 12/11/08
64646 | Chrysler Sterling Stamping (UAW) | Sterling Heights, MI | John Karas | 586-977-4573 | 12/11/08
64647 | Trane (AFLCIO) | Tyler, TX | Paul Fisher | 903-581-3200 | 12/11/08
64648 | Cuno, Inc. (State) | Menden, CT | Jodi Cunningham | 203-238-8765 | 12/11/08
64649 | Brown Jordan (Wkrs) | El Monte, CA | Patricia Zevala | 626-433-2278 | 12/11/08
64650 | Accuride Corporation (Comp) | Henderson, KY | Sharon Pepper | 270-827-7642 | 12/11/08
64651 | Johnson Controls Incorporated (UAW) | Rockwood, MI | Lisa Montgomery | 734-207-2297 | 12/11/08
64652 | Georgia-Pacific, LLC (Comp) | Louisville, MS | James Coward | 662-779-1230 | 12/11/08
64653 | RPM Electronics (State) | Fort Collins, CO | George Bielinski | 970-310-3558 | 12/11/08
64654 | Viasystems Milwaukee, Inc. (Comp) | Oak Creek, WI | Robert Jennings | 414-570-5200 | 12/11/08
64655 | Carolina Cargo Express, LLC (Comp) | Forest City, NC | Joey Sprouse | 828-288-7000 | 12/11/08
64656 | International Designer Transitions (IDT), Inc. (Wkrs) | Graham, NC | Tom Laitala | 425-273-5474 | 12/12/08
64657 | Cermaspeed, Inc. (Comp) | Maryville, TN | Jim Holliday | 865-273-4128 | 12/12/08
64658 | Fleetwood Motor Homes of Pa., Inc. (Wkrs) | Paxinos, PA | Matt Petrill | 570-644-0817 | 12/12/08
64659 | Crane Composites, Inc. (Comp) | Grand Junction, TN | Michael Shearon | 731-764-5574 | 12/12/08
64660 | Cintas Corporation (Comp) | Owingsville, KY | David Wheeler | 513-574-3549 | 12/12/08
64661 | Parker Hannifin (State) | Carson City, NV | Joe Mason | 520-907-4835 | 12/12/08
64662 | Wearbest Sil-Tex Mills, Ltd (Comp) | New York, NY | William Schwarzlow | 973-340-8844 | 12/12/08
64663 | OutWorks, LLC (Comp) | Austin, TX | John Carnagey | 512-833-0837 | 12/12/08
64664 | Elkay Manufacturing (Comp) | Broadview, IL | Michael Mestousls | 708-681-1880 | 12/12/08
64665 | Howmet (UAW) | Whitehall, MI | Doug Fessenden | 231-894-9066 | 12/12/08
64666 | Kongsberg Automotive (Rep) | Haysville, KS | Ray Bomya | 248-615-3090 | 12/12/08

[FR Doc. E8-30933 Filed 12-29-08; 8:45 am]

BILLING CODE 4510-FN-P